DEPARTMENT OF HOUSING AND URBAN DEVELOPMENT

24 CFR Parts 3280, 3282, and 3285

[Docket No. FR-6075-N-01]

Regulatory Review of Manufactured Housing Rules

AGENCY: Office of the Assistant Secretary for Housing—Federal Housing Commissioner, Department of Housing and Urban Development, HUD.

ACTION: Request for comments on regulatory review.

SUMMARY: Consistent with Executive Order 13771 entitled “Reducing Regulation and Controlling Regulatory Costs,” and Executive Order 13777 entitled, “Enforcing the Regulatory Reform Agenda,” and as part of the efforts of HUD's Regulatory Reform Task Force, this document informs the public that HUD is reviewing its existing and planned manufactured housing regulatory actions to assess their actual and potential compliance costs and reduce regulatory burden. HUD invites public comment to assist in identifying regulations that may be outmoded, ineffective or excessively burdensome and should be modified, streamlined, replaced or repealed.

DATES: Comment Due Date: February 26, 2018.

ADDRESSES: Interested persons are invited to submit comments regarding this notice to the Regulations Division, Office of General Counsel, Department of Housing and Urban Development, 451 7th Street SW, Room 10276, Washington, DC 20410-0500. Communications must refer to the above docket number and title.

Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov website can be viewed by other commenters and interested members of the public. Commenters should follow the instructions provided on that site to submit comments electronically.

Note: To receive consideration as public comments, comments must be submitted through one of the two methods specified above. Again, all submissions must refer to the docket number and title of the notice.

No Facsimile Comments. Facsimile (fax) comments are not acceptable.

Public Inspection of Public Comments. All properly submitted comments and communications submitted to HUD will be available for public inspection and copying between 8 a.m. and 5 p.m. weekdays at the above address. Due to security measures at the HUD Headquarters building, an appointment to review the public comments must be scheduled in advance by calling the Regulations Division at 202-708-3055 (this is not a toll-free number). Individuals with speech or hearing impairments may access this number via TTY by calling the Federal Relay Service at 1-800-877-8339 (this is a toll-free number). Copies of all comments submitted are available for inspection and downloading at www.regulations.gov.

FOR FURTHER INFORMATION CONTACT: Ariel Pereira, Associate General Counsel for Legislation and Regulations, Office of General Counsel, Department of Housing and Urban Development, 451 7th Street SW, Room 10282, Washington DC 20410; telephone number 202-402-5138 (this is not a toll-free number). Persons with hearing or speech impairments may access this number through TTY by calling the toll-free Federal Relay Service at 800-877-8339.

SUPPLEMENTARY INFORMATION:

I. Executive Orders 13771 and 13777

Under the leadership of Secretary Carson, HUD has undertaken an effort, consistent with Executive Order 13771 (82 FR 9339), entitled “Reducing Regulation and Controlling Regulatory Costs,” to identify and eliminate or streamline regulations that are wasteful, inefficient or unnecessary. Executive Order 13771 requires that agencies manage the costs associated with the governmental imposition of private expenditures required to comply with Federal regulations. Toward this end, Executive Order 13771 directs that for each new regulation issued, at least two prior regulations be identified for elimination and requires that the cost of planned regulations be prudently managed and controlled. In furtherance of this objective, the Secretary has also led HUD's implementation of Executive Order 13777 (82 FR 12285), entitled “Enforcing the Regulatory Reform Agenda.” Executive Order 13777 reaffirms the rulemaking principles of Executive Order 13771 by directing each agency to establish a Regulatory Reform Task Force to evaluate existing regulations to identify those that merit repeal, replacement, modification, are outdated, unnecessary, or are ineffective, eliminate or inhibit job creation, impose costs that exceed benefits, or derive from or implement Executive Orders that have been rescinded or significantly modified.

II. This Notice

Manufactured housing plays a vital role in meeting the nation's affordable housing needs, providing 9.5 percent of the total single-family housing stock.¹ According to the Manufactured Housing Institute,² more than 22 million Americans reside in manufactured housing. Manufactured homes are particularly important in rural states, where manufactured homes are approximately 16.2 percent of occupied housing units. The manufactured housing industry is also an important economic engine, accounting for approximately 35,000 jobs nationwide.

¹ American Housing Survey, 2013. Available at:

http://factfinder2.census.gov/faces/tableservices/jsf/pages/productview.xhtml?pid=AHS_2013_C01AH&prodType=table.

² http://www.manufacturedhousing.org/research-and-data/.

HUD regulation of manufactured housing fulfills a critical role of both protecting consumers and ensuring a fair and efficient market. HUD may adopt, revise, and interpret HUD's manufactured housing program regulations based on recommendations of the Manufactured Housing Consensus Committee, a statutory Federal Advisory Committee body.³ Given the significant role that manufactured housing plays in providing affordable housing, HUD has determined that it should undertake a substantive review of all current and planned federal regulation of manufactured housing. This review is intended to ensure that HUD can more effectively meet its responsibilities to facilitate the availability of affordable manufactured homes and encourage innovation and cost-effective construction techniques for manufactured housing while continuing to protect consumers by ensuring quality, durable, safe and affordable manufactured homes.

³ See HUD, Manufactured Housing Consensus Committee, https://www.hud.gov/program_offices/housing/rmra/mhs/cc1.

In conducting this review, HUD believes that it would benefit from information and perspectives among state, local and tribal officials, experts in relevant disciplines, affected stakeholders in the private sector and the public as a whole. HUD is, therefore, requesting comment on all current and planned regulatory actions affecting manufactured housing. HUD specifically seeks comment on:

• Rules listed in its Unified Agenda of Regulatory and Deregulatory Actions regulations, including rules to update its Manufactured Home Construction and Safety Standards (FR-5739), and exempt Recreational Vehicles from its Manufactured Home Construction and Safety Standards and Procedural and Enforcement Regulations (FR-5787).

• How HUD should proceed with its Interpretative Bulletin that provides guidance for designing and installing manufactured home foundations in areas subject to freezing temperatures with seasonal ground freezing.

• The effectiveness of HUD's on-site completion of construction regulations, its Subpart I notification and corrections procedures, and its Alternative Construction approval process, both overall and specifically in review of manufactured homes with a carport-ready design or any other similar design that would permit the construction of an add-on at the final home site, that is not structurally independent from the home's structure, support and anchoring systems.

HUD does not anticipate moving forward with any manufactured housing program regulations pending completion of its review. HUD may make exceptions, however, on individual rules based on policy priorities or revised circumstances.

To assist in the formulation of comments, HUD encourages commenters to consider how HUD's manufactured housing regulatory agenda may be streamlined to reduce or eliminate costs and overall burden while ensuring that HUD can continue to meet its statutory responsibilities under the Manufactured Home construction and Safety Standards Act of 1974 (42 U.S.C. 5401 et seq.), as amended.

Dated: January 8, 2018.
Dana T. Wade,
General Deputy Assistant Secretary for Housing.

[FR Doc. 2018-01276 Filed 1-25-18; 8:45 am]

BILLING CODE 4210-67-P